DEPARTMENT OF COMMERCE

National Oceanic and Atmospheric Administration

[I.D. 032403B]

Marine Mammals; File No. 1003-1665

AGENCY: National Marine Fisheries Service (NMFS), National Oceanic and Atmospheric Administration (NOAA), Commerce.

ACTION: Receipt of application for amendment.

SUMMARY: Notice is hereby given that Dr. Jennifer Moss Burns, University of Alaska Anchorage, Department of Biological Sciences, College of Arts and Sciences, 3211 Providence Drive, Anchorage, AK 99508, has requested an amendment to scientific research Permit No. 1003-1665-00.

DATES: Written or telefaxed comments must be received on or before May 7, 2003.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Tammy Adams or Amy Sloan, (301)713-2289.

SUPPLEMENTARY INFORMATION: The subject amendment to Permit No. 1003-1665-00, issued on April 12, 2002 (67 FR 19167) is requested under the authority of the Marine Mammal Protection Act of 1972, as amended (16 U.S.C. 1361 et seq.) and the Regulations Governing the Taking and Importing of Marine Mammals (50 CFR part 216).

Permit No. 1003-1665-00 authorizes the permit holder to take up to 40 Pacific harbor seals (Phoca vitulina richardsi) per year in Southeast Alaska by capture, blood and tissue sampling, and attachment of scientific instruments, and up to 500 harbor seals per year by disturbance incidental to capture, scat collection, and ground and aerial surveys. The purpose of the research is to study the physical factors (e.g., ice and water conditions, seasons) that influence seal habitat use and to monitor seal foraging behavior and prey selection. The permit holder requests authorization to increase the number of takes by disturbance incidental to capture and surveys to 2000 per year. This request is based on observations from the previous year's surveys during which a greater than anticipated abundance of seals was documented.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 31, 2003.
Stephen L. Leathery,
Chief, Permits, Conservation and Education Division, Office of Protected Resources, National Marine Fisheries Service.

[FR Doc. 03-8397 Filed 4-4-03; 8:45 am]

BILLING CODE 3510-22-S